NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before September 15, 2000. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@arch2.nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301) 713-7110. E-mail: records.mgt@arch2.nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Air Force, Agency-wide (N1-AFU-99-10, 5 items, 5 temporary items). Electronic copies of documents created using electronic mail and word processing that are associated with unfavorable information files of enlisted personnel and officers. This schedule also revises the disposition instructions for recordkeeping copies of these files, which were previously approved for disposal.

2. Department of the Air Force, Agency-wide (N1-AFU-00-2, 6 items, 6 temporary items). Records relating to Air Force radio and television service. Included are workload reports, product quality assessments, information concerning broadcast scheduling, broadcast material inventories, and documents relating to the disposition and shipment of library materials. Also included are electronic copies of documents created using electronic mail and word processing.

3. Department of the Air Force, Agency-wide (N1-AFU-00-10, 2 items, 2 temporary items). Electronic copies of documents created using electronic mail and word processing that are associated with student operations training records containing personal data and course information. This schedule also increases the retention period for recordkeeping copies of these files, which were previously approved for disposal.

4. Department of the Army, Agency-wide (N1-AU-00-12, 2 items, 2 temporary items). Master files and outputs of the Army Career and Alumni Program System, an electronic information system pertaining to services and benefits for military and civilian personnel transitioning from the Army. The system includes demographic data concerning program participants and information concerning the nature and scope of the assistance needed for them to successfully transition.

5. Department of the Army, Agency-wide (N1-AU-00-17, 2 items, 2 temporary items). Files relating to programs to provide active duty special work for reserve component personnel. Included are budget and resource management files, requests, approvals, and disapprovals. Also included are electronic copies of documents created using electronic mail and word processing.

6. Department of the Army, Agency-wide (N1-AU-00-19, 2 items, 2 temporary items). Individual academic records of military personnel. Files include information relating to such matters as courses attended, extent of completion, results, aptitudes and personal qualities, and grade or rating attained. Also included are electronic copies of documents created using electronic mail and word processing. Records predating 1981 were previously approved for disposal.

7. Department of the Army, Agency-wide (N1-AU-00-24, 2 items, 2 temporary items). Master files and outputs of the Dental Readiness System, an electronic information system concerning the dental readiness status of all active duty personnel. The system includes name and unit of service members and date of last annual dental examination.

8. Department of the Army, U.S. Forces Korea (N1-AU-00-25, 2 items, 2 temporary items). Master files and outputs of the Biometrics Identification System, an electronic information system used to control access to U.S. facilities in Korea. The system includes personal identifying data concerning U.S. military and civilian personnel, level of access, and vehicle and weapons registration information.

9. Department of Commerce, National Oceanographic and Atmospheric Administration (N1-370-00-1, 2 items, 2 temporary items). Records relating to the management of weather stations and field offices of the National Weather Service. Records document daily management, emergency procedures, and administrative policies. Included are such records as annual inspection reports, local office instructions, manuals, and electronic copies of documents created using electronic mail and word processing.

10. Department of Defense, Defense Information Systems Agency (N1-371-99-1, 3 items, 2 temporary items). Older records accumulated during the 1960s and 1970s consisting of area office correspondence and automatic secure voice communications system project management files. Records relate to such matters as circuitry problems and improvements, power outages, switch relocations, monthly maintenance, and technical support. Headquarters program correspondence, 1960-1964, is proposed for permanent retention.

11. Department of Defense, Defense Intelligence Agency (N1-373-00-2, 4 items, 4 temporary items). Records relating to identifying and addressing Y2K issues. Included are overall plans, risk assessments, budget records, and files relating to the testing and modification of specific systems. Also included are electronic copies of records created using electronic mail and word processing.

12. Department of Defense, National Imagery and Mapping Agency (N1-537-00-3, 90 items, 88 temporary items). Paper and electronic records relating to budget, finance, and accounting, including electronic copies of documents created using electronic mail and word processing. Records relate to such matters as budget preparation, financial transactions, civilian personnel pay and accounting, property and fund accounting, non-appropriated fund accounting, and cost accounting. Recordkeeping copies of annual budget estimate submissions and Congressional budget justifications are proposed for permanent retention.

13. Department of Energy, Rocky Flats Environmental Technology Site (N1-434-98-26, 2 items, 2 temporary items). Incoming and outgoing controlled correspondence, which consists of documents identifying commitments to actions, dates, or resources for the on-site Management and Operations contractor. Also included are attachments, enclosures, written dissents, and electronic copies of documents created using electronic mail and word processing. Copies of records that have historical value are maintained in subject files, which were previously approved for permanent retention.

14. Department of Energy, Year 2000 Project Office (N1-434-00-2, 10 items, 10 temporary items). Records relating to efforts to ensure that agency computer systems are Y2K compliant. Included are records relating to such matters as policy and planning, system testing and verification, and project administration. Also included are electronic copies of documents created using electronic mail and word processing. This schedule also authorizes the agency to apply the proposed disposition instructions to records regardless of medium.

15. Department of Energy, Assistant Secretary for Fossil Energy (N1-434-00-4, 4 items, 4 temporary items). Paper and microfilm copies of Natural Gas Import/Export Case Files. Included are such records as applications, Federal Register notices, correspondence, protests, interventions, and final opinions. Also included are electronic copies of documents created using electronic mail and word processing.

16. Department of Health and Human Services, Centers for Disease Control and Prevention (N1-442-00-2, 3 items, 3 temporary items). Paper and electronic records relating to Y2K efforts, including reports, lists, correspondence, memorandums, spreadsheets, compact disks, and electronic copies of records created using electronic mail and word processing. Records relate to such subjects as system reviews, meetings, logistical matters, and contractor activities.

17. Department of Health and Human Services, Agency for Health and Human Services (N1-510-00-1, 3 items, 3 temporary items). User access logs and access log analysis reports for the Quality Interagency Coordination Task Force's web site. Records pertain to visits to the site and include such information as visitor's origin, length of stay, and activities while at the site. Also included are electronic copies of documents created using electronic mail and word processing.

18. Department of Housing and Urban Development, Office of Congressional Relations (N1-207-00-2, 16 items, 13 temporary items). Records accumulated by the Office of the Assistant Secretary for Congressional and Intergovernmental Relations. Included are such records as travel plans, speaking invitations, correspondence with Members of Congress, staff working files, notifications provided to Members of Congress concerning agency-assisted projects, and electronic copies of documents created using electronic mail and word processing. Recordkeeping copies of substantive correspondence, calendars, and Congressional testimony are proposed for permanent retention.

19. Department of Housing and Urban Development, Office of Fair Housing and Equal Opportunity (N1-207-00-3, 2 items, 1 temporary item). Electronic copies of records created using electronic mail and word processing associated with case files relating to agency-regulated security contracts at public housing sites. Recordkeeping copies of case files are proposed for permanent retention.

20. Department of the Interior, Bureau of Land Management (N1-49-00-3, 30 items, 27 temporary items). Records relating to the Federal helium program including electronic copies of records created using electronic mail and word processing. Records relate to such matters as the processing and clearance of proposed and final rules, the design, inspection, and maintenance of pipelines, the preparation of reports on helium resources, helium sales, and helium wells. Also included are databases used for billings and for identifying sources of helium in natural gas. Recordkeeping copies of published reports, records of easements and rights-of-way, and files containing documentation concerning major policies and procedures are proposed for permanent retention.

21. Department of Justice, Drug Enforcement Administration (N1-170-00-2, 3 items, 3 temporary items). Records relating to the cleanup of hazardous waste sites and the disposal of hazardous waste in permanent landfills and incinerators. Files include correspondence, instructions to contractors, manifests, invoices, packing lists, delivery orders, teletypes, reports and supporting documentation, and electronic copies of documents created using electronic mail and word processing. Recordkeeping copies of files maintained by the office with agency-wide responsibility for the program will be retained for 75 years.

22. Department of Justice, U.S. Parole Commission (N1-438-00-1, 2 items, 1 temporary item). Input documents for the Decision Reporting and Monitoring System (DRAM), an electronic database relating to parole hearings. Records consist of such documents as copies of prisoner parole applications, summaries of prisoner interviews, and notices of action. Master files for DRAM are proposed for permanent retention.

23. Department of Justice, United States Marshals Service (N1-527-00-3, 10 items, 9 temporary items). Paper and electronic records relating to felony investigations, misdemeanor cases, and traffic cases, including electronic copies of documents created using electronic mail and word processing. Recordkeeping copies of significant case files are proposed for permanent retention.

24. Department of Labor, National Occupational Information Coordinating Committee (N1-174-00-3, 41 items, 27 temporary items). Records relating to career development programs, including general correspondence, information memorandums, administrative meeting agendas, allotments, monthly planning calendars, grant files, and electronic copies of documents created using electronic mail and word processing. Proposed for permanent retention are recordkeeping copies of administrative memorandums, interagency agreements and memorandums of understanding, speeches, publications, long range planning documents, sound and video recordings, and Career Development Training Institute Board minutes, agendas, and reports.

25. Department of State, Bureau of Personnel (N1-59-00-1, 20 items, 19 temporary items). Records accumulated by the Director General and Board of the Foreign Service. Included are such records as Director General messages and correspondence, Board of the Foreign Service administrative and subject files, and files relating to employee-management relations. Also included are electronic copies of records created using word processing and electronic mail. Recordkeeping copies of minutes, transcripts, and other records relating to meetings of the Board of the Foreign Service are proposed for permanent retention. This schedule proposes minor changes in series descriptions and disposition instructions for recordkeeping copies of these files, which were previously scheduled.

26. Department of State, Bureau of Personnel (N1-59-00-13, 84 items, 71 temporary items). Records relating to the administration of career development programs for Foreign Service Officers. Included are such records as subject files relating to career counseling and assignments, files on applicants for limited duration assignments into Foreign Service positions, and other files accumulated in connection with the administration of career development and training programs. Also included are electronic copies of documents created using electronic mail and word processing. Proposed for permanent retention are recordkeeping copies of files relating to Presidential appointments, appointments to the Foreign Service, and the Great Seal of the United States. Most of the series covered by this schedule were previously scheduled; minor changes in disposition instructions are proposed for these records.

27. Department of State, Bureau of Information Resource Management (N1-59-00-19, 7 items, 7 temporary items). Records, including electronic copies created using electronic mail and word processing, that relate to identifying and addressing Y2K issues. Records relate to such matters as overall policies and plans, budgeting and resource allocation, and the testing and modification of specific systems.

28. Department of the Treasury, United States Secret Service (N1-87-00-1, 2 items, 2 temporary items). Records relating to Century Date Conversion (Y2K) efforts. Files pertain to such matters as the development of plans and strategies, the review and testing of computer systems and applications, and program reviews. Included are plans, copies of contracts, policy letters, correspondence, and electronic copies of documents created using electronic mail and word processing.

29. Department of the Treasury, United States Secret Service (N1-87-00-2, 6 items, 6 temporary items). Records accumulated by the Headquarters Office of the Counterfeit Division. Records include digests of counterfeit information, counterfeit U.S. Treasury checks, additional specimen notes, and raised and pieced notes. Also included are electronic copies of records created using electronic mail and word processing.

30. Department of the Treasury, United States Secret Service (N1-87-00-3, 8 items, 8 temporary items). Records accumulated by Field Offices of the Counterfeit Division. Records include logs of items provided to agents for use in investigations, contraband property and related records, counterfeit U.S. Treasury checks, additional specimen notes, and raised and pieced notes. Also included are electronic copies of records created using electronic mail and word processing.

31. Administrative Office of the U.S. Courts, Federal Appellate and District Courts (N1-116-00-1, 7 items, 4 temporary items). Electronic copies of documents created using electronic mail and word processing that relate to disciplinary actions against attorneys, appellate judicial assignments and designations, attorney disbarment proceedings, attorney admissions, and the actions and minutes of circuit judicial councils. Recordkeeping copies of disciplinary action files and judicial assignment records are proposed for disposal. Recordkeeping copies of files relating to attorney admissions, disbarments, and the activities of judicial councils are proposed for permanent retention.

32. Environmental Protection Agency, Agency-wide (N1-412-00-1, 3 items, 3 temporary items). Software programs, electronic data, and documentation associated with the Envirofacts data warehouse. The Envirofacts system provides access to agency databases to allow cross media analyses of program information. The source data available in Envirofacts was previously approved for permanent retention.

33. Farm Credit Administration, Agency-wide (N1-103-00-1, 3 items, 3 temporary items). Loan performance reports and financial and statistical reports for which data has been entered into the Consolidated Reporting System. This schedule reduces the retention period for these reports, which are no longer created by the agency and were previously approved for disposal. The Consolidated Reporting System was previously approved for permanent retention.

34. Federal Retirement Thrift Investment Board, Agency-wide (N1-474-00-3, 1 item, 1 temporary item). Sound recordings of telephone conversations of Thrift Savings Plan customer service representatives with plan participants, Federal agency personnel and payroll offices, and other individuals or institutions.

35. Interagency Commission on Crime and Security in U.S. Seaports, Agency-wide (N1-220-00-5, 23 items, 15 temporary items). Unidentified photographs, web-based forms, documents placed on the Commission's web site, duplicate copies of documents, and electronic copies of documents created using electronic mail, word processing, and other applications. Records proposed for permanent retention include recordkeeping copies of Commissioners' minutes and correspondence, public meeting records, files accumulated by work groups, subject files, reports, still photographs, and reference materials relating to seaport crime and security.

36. National Aeronautics and Space Administration, Agency-wide (N1-255-00-4, 3 items, 3 temporary items). Research and technology plans and objectives files, which relate to the funding levels of ongoing and proposed space science research projects. Included are forms with project descriptions and funding profiles and electronic copies of documents created using electronic mail and word processing.

37. National Aeronautics and Space Administration, Agency-wide (N1-255-00-5, 2 items, 2 temporary items). Records of third party audits documenting the certification of computer and electronic equipment manufactured for the agency. Included are quality control reviews of printed wiring boards inspected for workmanship and defects and electronic copies of documents created using electronic mail and word processing.

38. Office of Personnel Management, Agency-wide (N1-478-00-1, 3 items, 2 temporary items). Electronic mail and word processing records associated with legal advisory files. This schedule also modifies the transfer instructions for recordkeeping copies of these files, which were previously approved for permanent retention.

Dated: July 24, 2000.
Michael J. Kurtz,
Assistant Archivist for Record Services—Washington, DC.

[FR Doc. 00-19345 Filed 7-31-00; 8:45 am]

BILLING CODE 7515-01-P